DEPARTMENT OF AGRICULTURE

Food Safety and Inspection Service

[Docket No. 00-012N]

Codex Alimentarius Commission: Twenty-eighth Session of the Codex Committee on Food Labelling

AGENCY: Office of the Under Secretary for Food Safety, USDA.

ACTION: Notice of public meeting and request for comments.

SUMMARY: The Office of the Under Secretary for Food Safety, U.S. Department of Agriculture (USDA), and the Food and Drug Administration (FDA), U.S. Department of Health and Human Services (HHS), are sponsoring a public meeting on April 17, 2000, to provide information and receive public comments on agenda items that will be discussed at the Twenty-eighth Session of the Codex Committee on Food Labelling (CCFL), which will be held in Ottawa, Canada, May 9-12, 2000. The Under Secretary for Food Safety and FDA recognize the importance of providing interested parties the opportunity to obtain background information on the Twenty-eighth Session of CCFL and to address items on the Agenda.

DATES: The public meeting is scheduled for Monday, April 17, 2000, from 1 p.m. to 4 p.m.

ADDRESSES: The public meeting will be held in Room 1409, Federal Office Building 8, 200 C Street SW, Washington, DC. (Metro Rail stop is Federal Center, SW.) To receive copies of the documents referenced in this notice, contact the FSIS Docket Clerk, U.S. Department of Agriculture, Food Safety and Inspection Service, Room 102, Cotton Annex, 300 12th Street, SW, Washington, DC 20250-3700. The documents will also be accessible via the World Wide Web at the following address: http://www.fao.org/waicent/faoinfo/economic/esn/codex. Send comments, in triplicate, to the FSIS Docket Clerk and reference Docket #00-012N. All comments submitted in response to this notice will be available for public inspection in the Docket Clerk's Office between 8:30 a.m. and 4:30 p.m., Monday through Friday.

FOR FURTHER INFORMATION CONTACT: Patrick J. Clerkin, Associate U.S. Manager for Codex, U.S. Codex Office, Food Safety and Inspection Service, Room 4861, South Building, 1400 Independence Avenue, SW, Washington, DC 20250, Telephone: (202) 205-7760, Fax: (202) 720-3157.

SUPPLEMENTARY INFORMATION:

Background

Codex was established in 1962 by two United Nations organizations, the Food and Agriculture Organization (FAO) and the World Health Organization (WHO). Codex is the major international organization for encouraging fair international trade in food and protecting the health and economic interests of consumers. Through adoption of food standards, codes of practice, and other guidelines developed by its committees, and by promoting their adoption and implementation by governments, Codex seeks to ensure that the world's food supply is sound, wholesome, free from adulteration, and correctly labeled.

The Codex Committee on Food Labelling drafts provisions on labeling applicable to all foods; considers, amends if necessary, and endorses specific provisions on labeling prepared by the Codex Committees drafting standards, codes of practice and guidelines; studies specific labeling problems assigned to it by the Commission, and studies problems associated with the advertisement of food with particular reference to claims and misleading descriptions.

Issues To Be Discussed at the Public Meeting

Agenda items will be described and discussed at the April 17, 2000, public meeting. Attendees will have the opportunity to pose questions and offer comments.

The provisional agenda items to be discussed during the public meeting:

1. Adoption of the Agenda

2. Matters referred by the Codex Alimentarius Commission and other Codex Committees

3. Consideration of Labeling Provisions in Draft Codex Standards

4. Draft Guidelines for the Production, Processing, Labeling and Marketing of Organically Produced Foods (Livestock Production)

5. Recommendations for the Labeling of Foods Obtained through Biotechnology

6. Draft Amendment to the General Standard for the Labeling of Prepackaged Foods (Class Names)

7. Proposed Draft Amendment to the Guidelines on Nutrition Labeling

8. Proposed Draft Recommendations for the Use of Health Claims

9. Proposed Draft Guidelines for the Use of the Term “Vegetarian”

10. Other business:

Discussion Paper on Misleading Claims

Discussion Paper on Quantitative Ingredient

Declaration

Each issue listed will be fully described in documents distributed, or to be distributed, by the Canadian Secretariat to the Meeting. Members of the public may access or request copies of these documents (see ADDRESSES).

Additional Public Notification

Public awareness of all segments of rulemaking and policy development is important. Consequently, in an effort to better ensure that minorities, women, and persons with disabilities are aware of this notice, FSIS will announce it and provide copies of this Federal Register publication in the FSIS Constituent Update. FSIS provides a weekly FSIS Constituent Update, which is communicated via fax to over 300 organizations and individuals. In addition, the update is available on-line through the FSIS web page located at http://www.fsis.usda.gov. The update is used to provide information regarding FSIS policies, procedures, regulations, Federal Register notices, FSIS public meetings, recalls, and any other types of information that could affect or would be of interest to our constituents/stakeholders. The constituent fax list consists of industry, trade, and farm groups, consumer interest groups, allied health professionals, scientific professionals, and other individuals that have requested to be included.

Through these various channels, FSIS is able to provide information to a much broader, more diverse audience. For more information and to be added to the constituent fax list, fax your request to the Congressional and Public Affairs Office, at (202) 720-5704.

Done at Washington, DC on March 30, 2000.
F. Edward Scarbrough,
U.S. Manager for Codex Alimentarius.

[FR Doc. 00-8247 Filed 4-3-00; 8:45 am]

BILLING CODE 3410-DM-P